CORPORATION FOR NATIONAL AND COMMUNITY SERVICE

45 CFR Parts 2510, 2520, 2521, 2522, 2540 and 2550

RIN 3045-AA41

AmeriCorps National Service Program

ACTION: Final rule; correction.

SUMMARY: The Corporation for National and Community Service (hereinafter the “Corporation”) is correcting a final rule that appeared in the Federal Register of July 8, 2005. The document amended several provisions relating to the AmeriCorps national service program, and added rules to clarify the Corporation's requirements for program sustainability, performance measures and evaluation, capacity-building activities by AmeriCorps members, qualifications for tutors, and other requirements.

DATES: Effective September 6, 2005.

FOR FURTHER INFORMATION CONTACT: Amy Borgstrom, Associate Director for Policy, Department of AmeriCorps, Corporation for National and Community Service, 1201 New York Avenue, NW., Washington, DC 20525, (202) 606-5000, ext. 132. T.D.D. (202) 606-3472. Persons with visual impairments may request this rule in an alternative format.

SUPPLEMENTARY INFORMATION:

In FR Doc. 05-13038 appearing on page 39562 in the Federal Register of Friday, July 8, 2005 (70 FR 39562), the following corrections are made:

1. On page 39585, in the second column, in the first full paragraph, the beginning of the first sentence “Note, however, that 133” is corrected to read “Note, however, that section 133”.

PART 2521—ELIGIBLE AMERICORPS SUBTITLE C PROGRAM APPLICANTS AND TYPES OF GRANTS AVAILABLE FOR AWARD

§ 2521.35 [Corrected]

2. On page 39598, in the second column, in § 2521.35, in paragraph (b), after the comma, “and you are also responsible for meeting an aggregate overall match based on your grantees' match individual match requirements.” is corrected to read “and you are also responsible for meeting an aggregate overall match based on your grantees' individual match requirements.”

PART 2522—AMERICORPS PARTICIPANTS, PROGRAMS, AND APPLICANTS

§ 2522.520 [Corrected]

3. On page 39603, in the third column, in § 2522.520, the second paragraph (h) is correctly redesignated as paragraph (i).

Dated: August 15, 2005.
Frank R. Trinity,
General Counsel.

[FR Doc. 05-16511 Filed 8-19-05; 8:45 am]

BILLING CODE 6050-28-P